ENVIRONMENTAL PROTECTION AGENCY

[NV068-NOA; FRL-7128-1]

Adequacy Status of the Clark County, Nevada Submitted PM10 Attainment Plan for Transportation Conformity Purposes

AGENCY: Environmental Protection Agency (EPA).

ACTION: Notice of Adequacy Determination.

SUMMARY: In this notice, EPA is notifying the public that we have found that the motor vehicle emissions budgets contained in the submitted Clark County (Las Vegas, NV) serious area fine particulate matter (PM10) attainment plan are adequate for transportation conformity purposes. As a result of our finding, the Clark County Regional Transportation Commission and the Federal Highway Administration must use the PM10 motor vehicle emissions budgets from the submitted plan for future conformity determinations.

DATES: This determination is effective January 28, 2002.

FOR FURTHER INFORMATION CONTACT: The finding is available at EPA's conformity web site: http://www.epa.gov/oms/traq, (once there, click on the “Conformity” button, then look for “Adequacy Review of SIP Submissions for Conformity”). You may also contact Karina O'Connor, U.S. EPA, Region IX, Air Division AIR-2, 75 Hawthorne Street, San Francisco, CA 94105; (775) 687-4670 ext. 3112 or oconnor.karina@epa.gov.

SUPPLEMENTARY INFORMATION:

Background

This notice announces our finding that the emissions budgets contained in the PM10 State Implementation Plan for Clark County, submitted by the State of Nevada on July 23, 2001, are adequate for transportation conformity purposes. EPA Region IX made this finding in a letter to the Nevada Division of Environmental Protection on November 9, 2001. We are also announcing this finding on our conformity web site: http://www.epa.gov/oms/traq, (once there, click on the “Conformity” button, then look for “Adequacy Review of SIP Submissions for Conformity”).

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). One of these criteria is that the plan provide for attainment of the relevant ambient air quality standard by the applicable Clean Air Act attainment date. We have preliminarily determined that the Clark County PM10 plan does provide for attainment of the PM10 standards and, therefore, can be found adequate.

We have described our process for determining the adequacy of submitted SIP budgets in guidance (May 14, 1999 memo titled “Conformity Guidance on Implementation of March 2, 1999 Conformity Court Decision”). We followed this guidance in making our adequacy determination on the emissions budgets contained in the Clark County PM10 plan.

Authority: 42 U.S.C. 7401-7671q.

Dated: December 16, 2001.
Wayne Nastri,
Regional Administrator, Region IX.

[FR Doc. 02-704 Filed 1-10-02; 8:45 am]

BILLING CODE 6560-50-P